DEPARTMENT OF ENERGY

Federal Energy Regulatory Commission

[Project No. 7590-007]

Nashua Hydro Associates; Notice of Application for Amendment of Exemption and Soliciting Comments, Motions To Intervene, and Protests

Take notice that the following hydroelectric application has been filed with the Commission and is available for public inspection:

a. Application Type: Amendment of Exemption.

b. Project No.: 7590-007.

c. Date Filed: September 20, 2012.

d. Applicant: Nashua Hydro Associates.

e. Name of Project: Jackson Mills Project.

f. Location: The project is located on the Nashua River in Hillsborough County, New Hampshire.

g. Filed Pursuant to: Federal Power Act, 16 U.S.C. 791(a-825(r).

h. Applicant Contact: Mr. Andrew Locke, Essex Hydro Associates, LLC, 55 Union Street, 4th Floor, Boston, MA 02108, (617) 367-0032, al@essexhydro.com, and Ms. Elizabeth W. Whittle, Nixon Peabody, LLP, 401 9th Street NW., Suite 900, Washington, DC 20004, (202) 585-8338, ewhittle@nixonpeabody.com.

i. FERC Contact: Kelly Houff, (202) 502-6393, Kelly.Houff@ferc.gov.

j. Deadline for filing comments, motions to intervene, and protests: December 3, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Application: The exemptee proposes to install a pneumatic crest gate system on 140 feet of the existing 178-foot-long spillway at the Jackson Mills Project to alleviate upstream flooding. The pneumatic crest gate system will consist of 6-foot-high, 20-foot-long, hinged steel panel sections, supported on the downstream side of the dam by tubular, air-filled, rubber bladders. In order to install the pneumatic crest gates, the exemptee will need to modify the existing Jackson Mills Dam by reducing 140 feet of the existing spillway by approximately 6 feet to allow for the installation of the 6-foot-high pneumatic crest gates. Additionally, the exemptee proposes to remove the 38-foot-long section of temporary flashboards located near the fishway.

The proposed pneumatic crest gate system would be designed for flood control purposes, and will not operate at flows below 7,500 to 9,000 cubic feet per second (cfs). The exemptee is not proposing to modify the height of the dam, therefore normal water levels would be maintained at their current elevation, and normal flows upstream and downstream of the project will not be altered upon installation of the crest gate system. The crest gate system would be designed to withstand overtopping in the raised position, and will be capable of operation in both a fully raised and partially raised position.

During construction of the of the pneumatic crest gate system, the exemptee proposes to perform the construction in “dry conditions” by eliminating flows at or over the Jackson Mills Dam by using an existing submerged cofferdam located about 300 feet upstream of the dam to divert all flows through the existing powerhouse, and setting the existing turbine units to sluice mode. Where feasible, the exemptee proposes to relocate fish and amphibian species to avoid possible fish stranding.

l. A copy of the application is available for review at the Commission in the Public Reference Room or may be viewed on the Commission's Web site at http://www.ferc.gov using the “eLibrary” link. Enter the docket number (P-7590-007) excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

o. Agency Comments: Federal, state, and local agencies are invited to file comments on the described application. A copy of the application may be obtained by agencies directly from the applicant. If an agency does not file comments within the time specified for filing comments, it will be presumed to have no comments. One copy of an agency's comments must also be sent to the Applicant's representatives.

Dated: October 31, 2012.
Kimberly D. Bose,
Secretary.

[FR Doc. 2012-27009 Filed 11-5-12; 8:45 am]

BILLING CODE 6717-01-P